DEPARTMENT OF STATE

[Public Notice 10938]

30-Day Notice of Proposed Information Collection: Evaluation of the Mandela Washington Fellowship for Young African Leaders

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to December 18, 2019.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Natalie Donahue, Chief of Evaluation, Bureau of Educational and Cultural Affairs, who may be reached on at DonahueNR@state.gov or at (202) 632-6193.

SUPPLEMENTARY INFORMATION:

• Title of Information Collection: Evaluation of the Mandela Washington Fellowship for Young African Leaders.

• OMB Control Number: None.

• Type of Request: New collection.

• Originating Office: Educational and Cultural Affairs (ECA/P/V).

• Form Number: No form.

• Respondents: Mandela Washington Fellowship program implementers and participating private individuals and organizations who interacted with the Fellows (including University staff, internship host organizations, peer collaborators, home stay hosts, and site visit/community service organizations).

• Estimated Number of Academic and Leadership Institute Survey Respondents: 100.

• Estimated Number of Academic and Leadership Institute Survey Responses: 40.

• Average Time per Academic and Leadership Institute Survey: 30 minutes.

• Total Estimated Academic and Leadership Institute Survey Burden Time: 20 hours.

• Estimated Number of Professional Development Experience Host Survey Respondents: 407.

• Estimated Number of Professional Development Experience Host Responses: 122.

• Average Time per Professional Development Experience Host Survey: 30 minutes.

• Total Estimated Professional Development Experience Host Survey Burden Time: 61 hours.

• Estimated Number of Reciprocal Exchange Alumni Survey Respondents: 172.

• Estimated Number of Reciprocal Exchange Alumni Responses: 52.

• Average Time per Reciprocal Exchange Alumni Survey: 30 minutes.

• Total Estimated Reciprocal Exchange Alumni Survey Burden Time: 26 hours.

• Estimated Number of U.S. Community Members Survey Respondents: 50.

• Estimated Number of U.S. Community Members Responses: 15.

• Average Time per U.S. Community Members Survey: 25 minutes.

• Total Estimated U.S. Community Members Survey Burden Time: 6.25 hours.

• Estimated Number of Academic and Leadership Institute Staff Key Informant Interview Participants: 15.

• Average Time per Academic and Leadership Institute Staff Key Informant Interviews: 60 minutes.

• Total Estimated Academic and Leadership Institute Staff Key Informant Interviews Burden Time: 15 hours.

• Estimated Number of Professional Development Experience Host Organization Staff Key Informant Interview Participants: 15.

• Average Time per Professional Development Experience Host Organization Staff Key Informant Interviews: 60 minutes.

• Total Estimated Professional Development Experience Host Organization Staff Key Informant Interviews Burden Time: 15 hours.

• Estimated Number of Reciprocal Exchange Alumni Key Informant Interview Participants: 15.

• Average Time per Reciprocal Exchange Alumni Key Informant Interviews: 60 minutes.

• Total Estimated Reciprocal Exchange Alumni Key Informant Interviews Burden Time: 15 hours.

• Estimated Number of U.S. Community Member Focus Group Participants: 15.

• Average Time per U.S. Community Member Focus Group: 90 minutes.

• Total Estimated U.S. Community Member Focus Group Burden Time: 22.5 hours.

• Estimated Number of Fellowship Experience Map Participants: 40.

• Average Time per Fellowship Experience Map Interview: 60 minutes.

• Total Estimated Fellowship Experience Map Burden Time: 40 hours.

• Total Estimated Number of Responses: 329.

• Total Estimated Burden Time: 271.10 annual hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Mandela Washington Fellowship for Young African Leaders, begun in 2014, is the flagship program of the Young African Leaders Initiative (YALI) that empowers young people through academic coursework, leadership training, and networking. The Fellows, who are between the ages of 25 and 35, have established records of accomplishment in promoting innovation and positive impact in their organizations, institutions, communities, and countries. This program is funded pursuant to the Mutual Educational and Cultural Exchanges Act of 1961 (22 U.S.C. 2451-2464).

To evaluate the impacts of the program, the U.S. Department of State's Bureau of Educational and Cultural Affairs (ECA) intends to conduct an evaluation of the program which cover Alumni from the 2014 through the 2018 cohorts, Academic and Leadership Institute staff and representatives, Professional Development Experience representatives, Reciprocal Exchange participants, and other U.S. Community Members. This timeframe covers the first five-year grant period of the Mandela Washington Fellowship, which was implemented by IREX. As the Mandela Washington Fellowship has been implemented for five years, ECA is conducting this evaluation to determine the extent to which the program is achieving its long-term goals. In order to do so, ECA has contracted Guidehouse LLP to conduct surveys, interviews, and focus groups with Fellowship Alumni and relevant stakeholders they engaged with during their time in the U.S.

Methodology

To create an understanding of how the Mandela Washington Fellowship impacts individual stakeholder groups who engage in the program, the evaluation team will segment data collection by identifying the impact of the Fellowship program on Alumni, U.S. participants, home communities in Africa and the United States, and overall progress towards U.S. foreign policy objectives. The evaluation team will also review areas for improvement and/or change within the program's operations based on respondent feedback.

The evaluation will use a mixed methods approach to data collection, utilizing qualitative and quantitative techniques, including: Online surveys, stakeholder interviews (remote and in-person), focus group discussions (in-person), and Fellowship Experience Maps of a small sample of Fellowship Alumni and one U.S. representative. The Fellowship Experience Maps are detailed case studies of select Fellows' and Reciprocal Exchange Awardees' experiences during the Fellowship. Data analysis will then be undertaken to illustrate impact and lessons learned, and to draw linkages between program track and outcomes.

Nini Forino,
Acting Deputy Assistant Secretary for Policy, Bureau of Educational and Cultural Affairs.

[FR Doc. 2019-24877 Filed 11-15-19; 8:45 am]

BILLING CODE 4710-05-P